DEPARTMENT OF HEALTH AND HUMAN SERVICES

Centers for Disease Control and Prevention

Request for Nominations for Candidates To Serve on the National Public Health Surveillance and Biosurveillance Advisory Committee (NPHSBAC)

The Centers for Disease Control and Prevention (CDC) is soliciting nominations for possible membership on the National Public Health Surveillance and Biosurveillance Advisory Committee (NPHSBAC). This committee provides advice and guidance to the Secretary of the Department of Health and Human Services and the Director of the Centers for Disease Control and Prevention, regarding the broad range of issues impacting the human health component of biosurveillance. The Committee will ensure that the Federal Government is meeting the goal of enabling State and local government public health surveillance capabilities. Specifically, this includes recommendations related to both traditional and innovative information sources of human health related data from State and local government public health authorities and appropriate private sector health care entities. This also includes recommendations to enable healthcare and public health information exchange.

Nominations are being sought for individuals who have expertise and qualifications necessary to contribute to the accomplishments of the Committee's objectives. Nominees will be selected based upon expertise in the field of public health surveillance and biosurveillance; multi-disciplinary expertise in public health; scientific and technical expertise. Whenever possible, nominees should be acknowledged experts in their fields whose credibility is beyond question. All nominees should have demonstrated skills in critical evaluation of data and communication skills necessary to promote efficient and effective deliberations.

Federal employees will not be considered for membership. Members may be invited to serve up to four-year terms. Consideration is given to representation from diverse geographic areas, both genders, ethnic and minority groups, and the disabled. Nominees must be U.S. citizens.

The following information must be submitted for each candidate: Name, affiliation, address, telephone number, and current curriculum vitae. Email addresses are requested if available.

Nominations should be sent, in writing, and postmarked by November 30, 2012 to: Vernellia Johnson, Management and Program Analyst, Public Health Surveillance and Informatics Program Office, Centers for Disease Control and Prevention, Office of Surveillance, Epidemiology and Laboratory Services, 2500 Century Center Boulevard, Room 3017, Atlanta, Georgia 30345 or via email to hft9@cdc.gov. Telephone and facsimile submissions cannot be accepted.

The Director, Management Analysis and Services Office, has been delegated the authority to sign Federal Register Notices pertaining to announcements of meetings and other committee management activities, for both the CDC and the Agency for Toxic Substances and Disease Registry.

Dated: October 26, 2012.
Elaine L. Baker,
Director, Management Analysis and Services Office, Centers for Disease Control and Prevention.

[FR Doc. 2012-27053 Filed 11-5-12; 8:45 am]

BILLING CODE 4163-18-P